DEPARTMENT OF DEFENSE

Office of the Secretary

Notice of Availability (NOA) for a Finding of No Significant Impact (FONSI) for the Environmental Assessment (EA) Addressing the Closure of Former Defense Fuel Support Point (DFSP) Moffett Field Located in Santa Clara County, California

AGENCY: Defense Logistics Agency (DLA), DoD.

ACTION: Notice of Availability (NOA) for a Finding of No Significant Impact (FONSI) for the Environmental Assessment (EA) addressing the Closure of Former Defense Fuel Support Point (DFSP) Moffett Field located in Santa Clara County, CA.

SUMMARY: On May 16, 2016, DLA published a NOA in the Federal Register announcing the publication of the EA addressing the Closure of DFSP Moffett Field in Santa Clara County, CA (81 FR 30266). The EA was available for a 30-day public comment period that ended June 15, 2016. The EA was prepared as required under the National Environmental Policy Act (NEPA) of 1969 and complies with DLA Regulation 1000.22. No comments were received during the public comment period. This FONSI documents the decision of DLA to proceed with the Closure of DFSP Moffett Field. DLA has determined that the Proposed Action is not a major Federal action significantly affecting the quality of the human environment within the context of NEPA and that no significant impacts on the human environment are associated with this decision.

FOR FURTHER INFORMATION CONTACT: Stacey Christenbury at 703-767-6557 during normal business hours Monday through Friday, from 8:00 a.m. to 4:30 p.m. (EST) or by email: NEPA@dla.mil.

SUPPLEMENTARY INFORMATION:

Cooperating Agency: National Aeronautics and Space Administration.

DLA completed an EA to address the potential environmental consequences associated with the proposed closure of DFSP Moffett Field in Santa Clara County, CA. This FONSI incorporates the EA by reference and summarizes the results of the analyses in the EA. The final EA is available in hardcopy at the Mountain View Public Library, located at 585 Franklin Street, Mountain View, California 94041, Phone: (650) 903-6337 or electronically at http://www.dla.mil/Portals/104/Documents/Energy/Publications/E_Moffett_FinalEA_160713.pdf?ver=2016-07-13-120724-920.

Purpose and Need for Action: The purpose of the Proposed Action is to reduce environmental risks associated with the five closed USTs; address two Notices of Violation that DLA Energy, received in March 2015 from the State of California Water Resources Control Board and County of Santa Clara regarding improper UST maintenance; and eliminate aging infrastructure no longer required to meet the Department of Defense mission. DLA Energy received the Notices of Violation based upon the State of California Water Resources Control Board and County of Santa Clara's determination that DLA is not maintaining the five USTs in compliance with California and Santa Clara County codes after the USTs were emptied and cleaned in 2005. The Proposed Action is therefore also necessary to resolve State of California Water Resources Control Board and County of Santa Clara assertions that DLA is not in compliance with the California Code of Regulations (CCR), Title 23, Division 3, Chapter 16, Article 7, Underground Storage Tank Requirements, and Unified Facilities Criterion 3-460-0. DLA Energy is committed to closure of these tanks, as well as implementation of a phased closure agreement (Phase II) with the Santa Clara Environmental Health Department.

Proposed Action and Alternatives: Under the Proposed Action, DLA proposes to permanently close DFSP Moffett Field. Under this proposal the fuel facility infrastructure would be physically disconnected, abandoned in place, dismantled, and/or demolished. NASA would continue to be the property owner of the parcel. The Proposed Action involves the closure of the five USTs and associated pipelines, truck fill stands, high-speed aircraft fueling hydrants, and related infrastructure (e.g., manhole vaults, pumps, pump houses, pump pads, hydrants, racks, cathodic protection system).

Description of the No Action Alternative: Under the No Action Alternative, DFSP Moffett Field's former fuel facilities would remain in their current nonclosure status and the State of California Water Resources Control Board and County of Santa Clara, would continue to consider the site in violation of state and county environmental regulations for the failure to be properly closed. Implementation of the No Action Alternative would leave the DFSP Moffett Field facilities in a caretaker status. The No Action Alternative would not meet the purpose of and need for the Proposed Action.

Potential Environmental Impacts: No significant effects on environmental resources would be expected from the Proposed Action. Potential insignificant, adverse effects on air quality, biological resources, geology, water resources, hazardous materials and waste, noise, and transportation could be expected. No effects on cultural resources, environmental justice, land use, public health and safety, socioeconomics, recreation, utilities, or visual resources would be expected. Details of the environmental consequences are discussed in the EA, which is hereby incorporated by reference.

Determination: Based on the analysis of the Proposed Action's potential impacts to the human environment from routine operations, it was concluded that the Proposed Action would produce no significant adverse impacts. Human environment was interpreted comprehensively to include the natural and physical environment and the relationship of people with that environment. No significant cumulative effects were identified. Implementation of the Proposed Action will not violate any Federal, state, or local laws. Based on the results of the analyses performed during preparation of the EA, Ms. Mary D. Miller, Director, DLA Installation Support, concludes that the Closure of DFSP Moffett Field in Santa Clara County, CA does not constitute a major Federal action significantly affecting the quality of the human environment within the context of NEPA. Therefore, an environmental impact statement for the Proposed Action is not required.

Dated: July 20, 2016.
Aaron Siegel,
Alternate OSD Federal Register Liaison Officer, Department of Defense.

[FR Doc. 2016-17504 Filed 7-22-16; 8:45 am]

BILLING CODE 5001-06-P